DEPARTMENT OF HEALTH AND HUMAN SERVICES

National Institutes of Health

National Cancer Institute; Amended Notice of Meeting

Notice is hereby given of a change in the meeting of the National Cancer Institute Special Emphasis Panel, October 16, 2013, 08:00 a.m. to October 17, 2013, 05:00 p.m., Bethesda North Marriott, Rockville, MD which was published in the Federal Register on August 16, 2013, 78 FR 50065.

Due to the absence of either an FY 2014 appropriation or Continuing Resolution for the Dept. of Health and Human Services, the meeting is rescheduled for November 20-21, 2013 from 8:00 a.m. to 5:00 p.m. and the meeting location has changed to Hilton Rockville, 1750 Rockville Pike, Rockville, MD 20852. The meeting is closed to the public.

Dated: October 29, 2013.
Melanie J. Gray,
Program Analyst, Office of Federal Advisory Committee Policy.

[FR Doc. 2013-26141 Filed 11-1-13; 8:45 am]

BILLING CODE 4140-01-P